DEPARTMENT OF ENERGY

Federal Energy Regulatory Commission

Combined Notice of Filings

Take notice that the Commission has received the following Natural Gas Pipeline Rate and Refund Report filings:

Filings Instituting Proceedings

Docket Numbers: PR25-29-000.

Applicants: Public Service Company of Colorado.

Description: 284.123(g) Rate Filing: Statement of Rates_01-01-2025 to be effective 1/1/2025.

Filed Date: 1/31/25.

Accession Number: 20250131-5096.

Comment Date: 5 p.m. ET 2/21/25.

284.123(g) Protest: 5 p.m. ET 4/1/25.

Docket Numbers: PR25-30-000.

Applicants: NorthWestern Corporation.

Description: 284.123 Rate Filing: Revised Transportation and Storage Rates(Annual Tax Tracker) to be effective. 1/1/2025.

Filed Date: 1/31/25.

Accession Number: 20250131-5165.

Comment Date: 5 p.m. ET 2/21/25.

Docket Numbers: RP25-421-000.

Applicants: MarkWest Pioneer, L.L.C.

Description: Compliance filing: Order No. 587-AA Compliance to be effective 8/1/2025.

Filed Date: 1/30/25.

Accession Number: 20250130-5158.

Comment Date: 5 p.m. ET 2/11/25.

Docket Numbers: RP25-422-000.

Applicants: Rendezvous Pipeline Company, LLC.

Description: Compliance filing: Order No. 587-AA Compliance to be effective 8/1/2025.

Filed Date: 1/30/25.

Accession Number: 20250130-5159.

Comment Date: 5 p.m. ET 2/11/25.

Docket Numbers: RP25-423-000.

Applicants: Western Gas Interstate Company.

Description: Compliance filing: Order No. 587-AA Compliance to be effective 8/1/2025.

Filed Date: 1/30/25.

Accession Number: 20250130-5163.

Comment Date: 5 p.m. ET 2/11/25.

Docket Numbers: RP25-424-000.

Applicants: El Paso Natural Gas Company, L.L.C.

Description: 4(d) Rate Filing: Negotiated Rate Agreement Update (Sempra Feb 2025) to be effective 2/1/2025.

Filed Date: 1/30/25.

Accession Number: 20250130-5214.

Comment Date: 5 p.m. ET 2/11/25.

Docket Numbers: RP25-425-000.

Applicants: Northwest Pipeline LLC.

Description: Compliance filing: NAESB 4.0 Compliance Filing to be effective 8/1/2025.

Filed Date: 1/30/25.

Accession Number: 20250130-5225.

Comment Date: 5 p.m. ET 2/11/25.

Docket Numbers: RP25-426-000.

Applicants: El Paso Natural Gas Company, L.L.C.

Description: 4(d) Rate Filing: Negotiated Rate Agreement Update (SoCal Feb-Apr 2025) to be effective 2/1/2025.

Filed Date: 1/30/25.

Accession Number: 20250130-5235.

Comment Date: 5 p.m. ET 2/11/25.

Docket Numbers: RP25-427-000.

Applicants: High Point Gas Transmission, LLC.

Description: Compliance filing: High Point Gas NAESB 4.0 Compliance Filing to be effective 8/1/2025.

Filed Date: 1/30/25.

Accession Number: 20250130-5257.

Comment Date: 5 p.m. ET 2/11/25.

Docket Numbers: RP25-428-000.

Applicants: Destin Pipeline Company, L.L.C.

Description: Compliance filing: Destin Pipeline Company NAESB 4.0 Compliance Filing to be effective 8/1/2025.

Filed Date: 1/30/25.

Accession Number: 20250130-5258.

Comment Date: 5 p.m. ET 2/11/25.

Docket Numbers: RP25-429-000.

Applicants: Chandeleur Pipe Line, LLC.

Description: Compliance filing: Chandeleur NAESB 4.0 Compliance Filing to be effective 8/1/2025.

Filed Date: 1/30/25.

Accession Number: 20250130-5261.

Comment Date: 5 p.m. ET 2/11/25.

Docket Numbers: RP25-430-000.

Applicants: Mountain Valley Pipeline, LLC.

Description: 4(d) Rate Filing: Negotiated Rate Agreement Filing—2/1/2025 to be effective 2/1/2025.

Filed Date: 1/31/25.

Accession Number: 20250131-5004.

Comment Date: 5 p.m. ET 2/12/25.

Docket Numbers: RP25-431-000.

Applicants: Great Lakes Gas Transmission Limited Partnership.

Description: 4(d) Rate Filing: Non-Conforming/Negotiated Rates Clean-Up to be effective 3/1/2025.

Filed Date: 1/31/25.

Accession Number: 20250131-5032.

Comment Date: 5 p.m. ET 2/12/25.

Docket Numbers: RP25-432-000.

Applicants: Algonquin Gas Transmission, LLC.

Description: Compliance filing: Algonquin Order 587-AA (Docket RM96-1-043) Compliance Filing to be effective 8/1/2025.

Filed Date: 1/31/25.

Accession Number: 20250131-5040.

Comment Date: 5 p.m. ET 2/12/25.

Docket Numbers: RP25-433-000.

Applicants: Maritimes & Northeast Pipeline, L.L.C.

Description: Compliance filing: Maritimes Order 587-AA (Docket RM96-1-043) Compliance Filing to be effective 8/1/2025.

Filed Date: 1/31/25.

Accession Number: 20250131-5042.

Comment Date: 5 p.m. ET 2/12/25.

Docket Numbers: RP25-434-000.

Applicants: Millennium Pipeline Company, LLC.

Description: 4(d) Rate Filing: Negotiated Rate Amendment—Shell 309614 to be effective 2/1/2025.

Filed Date: 1/31/25.

Accession Number: 20250131-5045.

Comment Date: 5 p.m. ET 2/12/25.

Docket Numbers: RP25-435-000.

Applicants: Cove Point LNG, LP.

Description: Compliance filing: Cove Point—NAESB Version 4.0 Compliance to be effective 8/1/2025.

Filed Date: 1/31/25.

Accession Number: 20250131-5048.

Comment Date: 5 p.m. ET 2/12/25.

Docket Numbers: RP25-436-000.

Applicants: Carolina Gas Transmission, LLC.

Description: Compliance filing: CGT—NAESB Version 4.0 Compliance to be effective 8/1/2025.

Filed Date: 1/31/25.

Accession Number: 20250131-5050.

Comment Date: 5 p.m. ET 2/12/25.

Docket Numbers: RP25-437-000.

Applicants: Eastern Gas Transmission and Storage, Inc.

Description: Compliance filing: EGTS—NAESB Version 4.0 Compliance to be effective 8/1/2025.

Filed Date: 1/31/25.

Accession Number: 20250131-5052.

Comment Date: 5 p.m. ET 2/12/25.

Docket Numbers: RP25-438-000.

Applicants: Transcontinental Gas Pipe Line Company, LLC.

Description: 4(d) Rate Filing: Rate Schedule S-2 Tracker Filing eff 2-1-2025 to be effective 2/1/2025.

Filed Date: 1/31/25.

Accession Number: 20250131-5060.

Comment Date: 5 p.m. ET 2/12/25.

Docket Numbers: RP25-439-000.

Applicants: Transwestern Pipeline Company, LLC.

Description: Compliance filing: Alert Day Refund Report on 1-31-2025 to be effective N/A.

Filed Date: 1/31/25.

Accession Number: 20250131-5061.

Comment Date: 5 p.m. ET 2/12/25.

Docket Numbers: RP25-440-000.

Applicants: National Fuel Gas Supply Corporation.

Description: Compliance filing: National Fuel NAESB Version 4 CF (Order No. 587-AA) to be effective 8/1/2025.

Filed Date: 1/31/25.

Accession Number: 20250131-5074.

Comment Date: 5 p.m. ET 2/12/25.

Docket Numbers: RP25-441-000.

Applicants: Northern Natural Gas Company.

Description: 4(d) Rate Filing: 20250131 Annual PRA to be effective 4/1/2025.

Filed Date: 1/31/25.

Accession Number: 20250131-5081.

Comment Date: 5 p.m. ET 2/12/25.

Docket Numbers: RP25-442-000.

Applicants: Empire Pipeline, Inc.

Description: Compliance filing: Empire NAESB Version 4 (Order No. 587-AA) to be effective 8/1/2025.

Filed Date: 1/31/25.

Accession Number: 20250131-5085.

Comment Date: 5 p.m. ET 2/12/25.

Docket Numbers: RP25-443-000.

Applicants: NEXUS Gas Transmission, LLC.

Description: 4(d) Rate Filing: Negotiated Rates—Various Releases—eff 2-1-2025 to be effective 2/1/2025.

Filed Date: 1/31/25.

Accession Number: 20250131-5090.

Comment Date: 5 p.m. ET 2/12/25.

Docket Numbers: RP25-444-000.

Applicants: OkTex Pipeline Company, L.L.C.

Description: Compliance filing: Order No. 587-AA Compliance Filing to be effective 8/1/2025.

Filed Date: 1/31/25.

Accession Number: 20250131-5102.

Comment Date: 5 p.m. ET 2/12/25.

Docket Numbers: RP25-445-000.

Applicants: RH energytrans, LLC.

Description: Compliance filing: NAESB Compliance Filing 2025 to be effective 8/1/2025.

Filed Date: 1/31/25.

Accession Number: 20250131-5110.

Comment Date: 5 p.m. ET 2/12/25.

Docket Numbers: RP25-446-000.

Applicants: Guardian Pipeline, L.L.C.

Description: Compliance filing: Order No. 587-AA Compliance Filing to be effective 8/1/2025.

Filed Date: 1/31/25.

Accession Number: 20250131-5115.

Comment Date: 5 p.m. ET 2/12/25.

Docket Numbers: RP25-447-000.

Applicants: Northern Natural Gas Company.

Description: 4(d) Rate Filing: 20250131 Negotiated Rates to be effective 2/1/2025.

Filed Date: 1/31/25.

Accession Number: 20250131-5117.

Comment Date: 5 p.m. ET 2/12/25.

Docket Numbers: RP25-448-000.

Applicants: Viking Gas Transmission Company.

Description: Compliance filing: Order No. 587-AA Compliance Filing to be effective 8/1/2025.

Filed Date: 1/31/25.

Accession Number: 20250131-5125.

Comment Date: 5 p.m. ET 2/12/25.

Docket Numbers: RP25-449-000.

Applicants: Midwestern Gas Transmission Company.

Description: Compliance filing: Order No. 587-AA Compliance Filing to be effective 8/1/2025.

Filed Date: 1/31/25.

Accession Number: 20250131-5141.

Comment Date: 5 p.m. ET 2/12/25.

Docket Numbers: RP25-450-000.

Applicants: Southern Natural Gas Company, L.L.C.

Description: 4(d) Rate Filing: SNG NRA Filing—Jan 2025 to be effective 2/1/2025.

Filed Date: 1/31/25.

Accession Number: 20250131-5160.

Comment Date: 5 p.m. ET 2/12/25.

Docket Numbers: RP25-451-000.

Applicants: Rockies Express Pipeline LLC.

Description: 4(d) Rate Filing: REX 2025-01-31 Negotiated Rate Agreements to be effective 2/1/2025.

Filed Date: 1/31/25.

Accession Number: 20250131-5161.

Comment Date: 5 p.m. ET 2/12/25.

Docket Numbers: RP25-452-000.

Applicants: Ruby Pipeline, L.L.C.

Description: 4(d) Rate Filing: RP 2025-01-31 FL&U and EPC Rate Adjustment to be effective 3/1/2025.

Filed Date: 1/31/25.

Accession Number: 20250131-5164.

Comment Date: 5 p.m. ET 2/12/25.

Docket Numbers: RP25-453-000.

Applicants: Bobcat Gas Storage.

Description: Compliance filing: Bobcat Order 587-AA (Docket RM96-1-043) Compliance Filing to be effective 8/1/2025.

Filed Date: 1/31/25.

Accession Number: 20250131-5166.

Comment Date: 5 p.m. ET 2/12/25.

Docket Numbers: RP25-454-000.

Applicants: Alliance Pipeline L.P.

Description: 4(d) Rate Filing: Negotiated Rates—Releases, Extensions 2025-02-01 to be effective 2/1/2025.

Filed Date: 1/31/25.

Accession Number: 20250131-5168.

Comment Date: 5 p.m. ET 2/12/25.

Docket Numbers: RP25-455-000.

Applicants: Egan Hub Storage, LLC.

Description: Compliance filing: Egan Hub Order 587-AA (Docket RM96-1-043) Compliance Filing to be effective 8/1/2025.

Filed Date: 1/31/25.

Accession Number: 20250131-5170.

Comment Date: 5 p.m. ET 2/12/25.

Docket Numbers: RP25-456-000.

Applicants: Cadeville Gas Storage LLC.

Description: Compliance filing: NAESB 4.0 Compliance Filing to be effective 8/1/2025.

Filed Date: 1/31/25.

Accession Number: 20250131-5174.

Comment Date: 5 p.m. ET 2/12/25.

Docket Numbers: RP25-457-000.

Applicants: Ozark Gas Transmission, L.L.C.

Description: Compliance filing: Ozark Gas Transmission NAESB Compliance Filing to be effective 8/1/2025.

Filed Date: 1/31/25.

Accession Number: 20250131-5184.

Comment Date: 5 p.m. ET 2/12/25.

Docket Numbers: RP25-458-000.

Applicants: BBT AlaTenn, LLC.

Description: Compliance filing: BBT (Ala-Tenn) NAESB 4.0 Compliance Filing to be effective 8/1/2025.

Filed Date: 1/31/25.

Accession Number: 20250131-5185.

Comment Date: 5 p.m. ET 2/12/25.

Docket Numbers: RP25-459-000.

Applicants: BBT Midla, LLC.

Description: Compliance filing: BBT (Midla) NAESB Compliance Filing to be effective 8/1/2025.

Filed Date: 1/31/25.

Accession Number: 20250131-5187.

Comment Date: 5 p.m. ET 2/12/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-617-002.

Applicants: East Tennessee Natural Gas, LLC.

Description: 2022-2023 Revised Cashout Report of East Tennessee Natural Gas, LLC.

Filed Date: 1/30/25.

Accession Number: 20250130-5270.

Comment Date: 5 p.m. ET 2/11/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 31, 2025.
Debbie-Anne A. Reese,
Secretary.

[FR Doc. 2025-02320 Filed 2-6-25; 8:45 am]

BILLING CODE 6717-01-P